FEDERAL MARITIME COMMISSION

Notice of Agreement(s) Filed

The Commission hereby gives notice of the filing of the following agreement(s) under the Shipping Act of 1984. Interested parties can review or obtain copies of agreements at the Washington, DC offices of the Commission, 800 North Capitol Street, N.W., Room 962. Interested parties may submit comments on an agreement to the Secretary, Federal Maritime Commission, Washington, DC 20573, within 10 days of the date this notice appears in the Federal Register.

Agreement No.: 203-011275-009.

Title: Australia/United States Discussion Agreement.

Parties: Columbus Line, P&O Nedlloyd Limited, Australia-New Zealand Direct Line, Cool Carriers AB, Seatrade Group N.V., FESCO Ocean Management Inc.

Synopsis: The proposed amendment would permit the parties to enter into joint service contracts, multiple carrier individual service contracts, and to adopt voluntary guidelines with respect to their individual service contracts.

Agreement No.: 203-011435-005.

Title: APL/MLL/Lykes Space Charter Agreement.

Parties: American President Lines, Ltd., APL Co. PTE LTD, Mexican Line Limited, Lykes Lines Limited, LLC.

Synopsis: The proposed modification adds Lykes Lines Limited as a party to the agreement and makes other non-substantive changes to the agreement.

By Order of the Federal Maritime Commission.
Bryant L. VanBrakle,
Secretary.

[FR Doc. 00-1856 Filed 1-25-00; 8:45 am]

BILLING CODE 6730-01-P